DEPARTMENT OF AGRICULTURE

Animal and Plant Health Inspection Service

[Docket No. APHIS-2007-0149]

National Animal Identification System; Updated Program Standards

AGENCY: Animal and Plant Health Inspection Service, USDA.

ACTION: Notice of availability and request for comments.

SUMMARY: We are advising the public that we are making available for review and comment a revised version of the National Animal Identification System (NAIS) Program Standards and Technical Reference document. A previous Program Standards document was originally made available in May 2005. The revised Program Standards and Technical Reference document reflects the continuing evolution of the NAIS, particularly with regard to identification devices available for official use within the system, and provides further guidance to NAIS participants and other interested stakeholders.

ADDRESSES: The revised Program Standards and Technical Reference document is available on the Internet at http://animalid.aphis.usda.gov/nais/. The document may also be viewed in our reading room. The reading room is located in Room 1141 of the USDA South Building, 14th Street and Independence Avenue, SW., Washington, DC. Normal reading room hours are 8 a.m. to 4:30 p.m., Monday through Friday, except holidays. To be sure someone is there to help you, please call (202) 690-2817 before coming.

FOR FURTHER INFORMATION CONTACT: Dr. Adam Grow; Director, Surveillance and Identification Programs, National Center for Animal Health Programs, VS, APHIS, 4700 River Road Unit 200, Riverdale, MD 20737-1231; (301) 734-3752.

SUPPLEMENTARY INFORMATION:

Background

On May 6, 2005, the Animal and Plant Health Inspection Service (APHIS) published in the Federal Register (70 FR 23961-23963, Docket No. 05-015-1) a notice advising the public that two documents related to the National Animal Identification System (NAIS), a Draft Strategic Plan and a Draft Program Standards document, were being made available to the public for review and comment. The Draft Program Standards document provided technical data standards to be used for information systems in the NAIS. Subsequently, a Draft User Guide for the NAIS replaced the 2005 Draft Program Standards, as well as other draft NAIS documents. We published a notice of availability of the Draft User Guide in the Federal Register (72 FR 4680-4681, Docket No. APHIS-2007-0007) on February 1, 2007. The February 2007 notice also announced the availability of a technical specification document for animal tracking databases and an updated Program Standards and Technical Reference document.

The Program Standards and Technical Reference document supplemented the User Guide and contained an update of the data element standards that were in the 2005 Draft Program Standards. It was targeted to entities that are involved in the administration of the program, including manufacturers of animal identification devices. At that time, only the Cattle Working Group and the Equine Species Working Group had provided performance standards for APHIS to employ when approving devices for use in the NAIS, so the standards included only the recommendations of those groups. Since then, the Swine Working Group and the Sheep and Goat Working Group have also provided recommendations, and in October 2007, we updated the Program Standards and Technical Reference document to include information specific to those species and made some other changes. We are, therefore, now making available to the public for review and comment this newly updated version of the Program Standards and Technical Reference document. We will continue to solicit public comments and stakeholder feedback on the document through the NAIS Web site.

Updates to the document include the following: (1) Adjustments to performance standards for identification eartags; (2) adjustments to printing standards for individual animal identification eartags; (3) the addition of printing standards for slaughter swine premises identification; and (4) the adjustment of our performance standards for radio frequency identification (RFID) injectable transponders to allow for the potential use of alternate International Organization for Standardization (ISO) or U.S.-based technology standards. These updates are discussed in more detail below.

Performance Standards for Identification Eartags

In the February 2007 Program Standards and Technical Reference document, we included a table outlining performance standards for identification eartags. These standards focused on cattle, since the Cattle Working Group had provided performance standards and since cattle were the primary species using NAIS identification at that time. We have now updated the performance standards for “Readability” and “Tag loss rates” to include information specific to sheep and goats and swine. For readability, we have added a note indicating that, for swine, the premises identification number (PIN) must also be easily and reliably readable. For tag loss rates, we have specified separate performance requirements for cattle (noting that the requirements for cattle should be used for all other species not specified in the table), sheep and goats, and swine. Due to the addition of eartag identification performance standards for species other than cattle, we have also changed the title of the table from “Identification Eartag” to “Performance Standards for Identification Eartags for all Species that use Eartags.”

Printing Standards for Eartags

In the February 2007 Program Standards and Technical Reference document, we included a table containing printing standards for identification eartags. As with the performance standards discussed above, the printing standards focused on cattle, since the Cattle Working Group had provided standards and since cattle were the primary species using NAIS identification at that time. We have now updated those standards to address the needs for unique, individual animal identification for sheep and goats and swine. Specifically, we have provided for the following options: (1) The use of smaller print sizes for the U.S. Shield, numbers, and letters, if needed, on tags for sheep and goats; (2) the inclusion of an eight-character series in the National Uniform Eartagging System, in addition to the current nine-character series, to accommodate the need for smaller eartags in smaller species such as swine and sheep; (3) the continuing use of a PIN plus an individual animal number unique to the premises for swine as an alternative to the animal identification number (AIN); and (4) the use of a number issued by the scrapie program consisting of a flock identification number (FIN) plus an individual animal number unique to the flock for sheep and goats as an alternative to the AIN. We have also changed the title of the table from “Printing Standards for Eartags” to “Printing Standards for Individual Animal ID Eartags” to differentiate these standards for “individual animal identification” eartags from the standards for “premises identification” eartags for slaughter swine. Slaughter swine do not require unique, individual animal identification.

Printing Standards for Slaughter Swine Premises Identification

The Swine Working Group recently provided recommendations related to printing standards necessary for official identification for slaughter swine premises identification. This updated October 2007 Program Standards and Technical Reference document now provides a table, directly following the “Printing Standards for Individual Animal ID Eartags” table described above, outlining the printing standards for slaughter swine premises identification eartags. The February 2007 document did not have such a table.

Adjustment to Performance Requirements for RFID Injectable Transponders

The February 2007 Program Standards and Technical Reference document included a table outlining performance requirements for RFID injectable transponders, as recommended by the Equine Species Working Group. Continuing work with this group resulted in an application to be used by manufacturers of such devices to gain approval by APHIS for use in the NAIS. The application indicates that other ISO or U.S.-based technology standards might be approved for use by APHIS, so the “ISO Compliant” standard has been adjusted to read, “All transponders must be certified by ICAR [International Committee for Animal Recording] for conformance with ISO 11784 and 11785, unless other ISO or U.S.-based technology standards are applicable to livestock and approved for use by APHIS.”

Comments about the revised Program Standards and Technical Reference document or other aspects of the NAIS may be submitted to USDA through the NAIS Web site e-mail address: animalidcomments@aphis.usda.gov or by mail to NAIS Program Staff, VS, APHIS, 4700 River Road, Unit 200, Riverdale, MD 20737.

Done in Washington, DC, this 29th day of November 2007.
Kevin Shea,
Acting Administrator, Animal and Plant Health Inspection Service.

[FR Doc. E7-23524 Filed 12-4-07; 8:45 am]

BILLING CODE 3410-34-P